DEPARTMENT OF THE INTERIOR

National Park Service

[NPS-WASO-NAGPRA-NPS0035521; PPWOCRADN0-PCU00RP14.R50000]

Notice of Inventory Completion: San Francisco State University NAGPRA Program, San Francisco, CA, and University of California, Berkeley, Berkeley, CA

AGENCY: National Park Service, Interior.

ACTION: Notice.

SUMMARY: In accordance with the Native American Graves Protection and Repatriation Act (NAGPRA), the San Francisco State University NAGPRA Program and University of California, Berkeley have completed a joint inventory of human remains and associated funerary objects and have determined that there is a cultural affiliation between the human remains and associated funerary objects and Indian Tribes or Native Hawaiian organizations in this notice. The human remains and associated funerary objects were removed from Shasta County, CA.

DATES: Repatriation of the human remains and associated funerary objects in this notice may occur on or after April 20, 2023.

ADDRESSES: Michelle Fitzgerald, San Francisco State University, 1600 Holloway Avenue, Administration Building 5th Floor, ADM 562C, San Francisco, CA 94132, telephone (415) 405-3545, email nagpra@sfsu.edu, and Alex Lucas, University of California, Berkeley, Office of Government and Community Relations, 120 California Hall, Berkeley, CA 94720, telephone (925) 791-7231, email nagpra-ucb@berkeley.edu.

SUPPLEMENTARY INFORMATION: This notice is published as part of the National Park Service's administrative responsibilities under NAGPRA. The determinations in this notice are the sole responsibility of the San Francisco State University NAGPRA Program and the University of California, Berkeley. The National Park Service is not responsible for the determinations in this notice. Additional information on the determinations in this notice, including the results of consultation, can be found in the inventory or related records held by the San Francisco State University NAGPRA Program and the University of California, Berkeley.

Description

In 1960, human remains representing, at minimum, 17 individuals, were removed from site CA-SHA-169 in Shasta County, CA, as part of excavations conducted by San Francisco State College (now San Francisco State University) prior to construction of a pumping plant. The site is multi-component, spanning periods before and after European contact. According to San Francisco State files, human remains and cultural items were housed at San Francisco State University after the excavation, and an undated document from the former Treganza Anthropology Museum (TAM) at San Francisco State University states that “8 cardboard boxes-all burials” from CA-SHA-169 were sent to the Lowie (now Hearst) Museum at the University of California, Berkeley. A letter from the former TAM to the Lowie Museum on May 26, 1969, indicates the burials were transferred “late in 1965 or early in 1966.” San Francisco State University repatriated other human remains and associated funerary objects from this site in 2016 but had previously categorized additional cultural items as “Non-Burial Material.” However, through additional consultation in 2022, these items (listed below) were re-categorized as associated funerary objects. The 50 associated funerary objects are made up of 44 associated funerary objects held by San Francisco State University and six associated funerary objects held by University of California, Berkeley. The 44 associated funerary objects held by San Francisco State University are one lot of antler items, one lot of arrow shaft straighteners, one basalt blade, one lot of obsidian blades, one lot of obsidian flakes, one lot of bone awls, one lot of bone beads, one lot of bone fish gorges, one stone chopper, one lot of clam shell disc beads, one chert core, one lot of dentalium, one lot of drills, one lot of modified faunal remains, one modified glass bottle, one glass bottle, one lot of Glycymeris shell beads, one groundstone with red ochre, one lot of Haliotis shell, one lot of modified Haliotis shell, one lot of Haliotis shell pendants, one lot of hammerstones, one lot of incised bone, one lot of modified stone, one white glass marble, one obsidian nodule, one lot of Gunther barbed projectile points, one lot of obsidian projectile points, five lots of Olivella shell beads, one lot of Olivella shell, one lot of pestles, one pipe bowl fragment, one porcelain sherd, one green slate or chert projectile point, three lots of unidentified shell beads, one stone pendant, and two lots of trade beads. The six associated funerary objects held by University of California, Berkeley, are one lot of beads, one lot of shell, one lot of stone, one lot of faunal remains, one lot of burnt items, and one matchbox.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, other relevant information, and expert opinion.

Determinations

Pursuant to NAGPRA and its implementing regulations, and after consultation with the appropriate Indian Tribes and Native Hawaiian organizations, the San Francisco State University NAGPRA Program and the University of California, Berkeley have determined that:

• The human remains described in this notice represent the physical remains of 17 individuals of Native American ancestry.

• The 50 objects described in this notice are reasonably believed to have been placed with or near individual human remains at the time of death or later as part of the death rite or ceremony.

• There is a relationship of shared group identity that can be reasonably traced between the human remains and associated funerary objects described in this notice and the Redding Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 20, 2023. If competing requests for repatriation are received, the San Francisco State University NAGPRA Program and the University of California, Berkeley must determine the most appropriate requestor prior to repatriation. Requests for joint repatriation of the human remains and associated funerary objects are considered a single request and not competing requests. The San Francisco State University NAGPRA Program and the University of California, Berkeley is responsible for sending a copy of this notice to the Indian Tribe identified in this notice.

Authority: Native American Graves Protection and Repatriation Act, 25 U.S.C. 3003, and the implementing regulations, 43 CFR 10.9, 10.10, and 10.14.

Dated: March 15, 2023.
Melanie O'Brien,
Manager, National NAGPRA Program.

[FR Doc. 2023-05734 Filed 3-20-23; 8:45 am]

BILLING CODE 4312-52-P